ENVIRONMENTAL PROTECTION AGENCY

[FRL-7091-1]

Agency Information Collection Activities: Proposed Collection; Comment Request; Drinking Water Customer Satisfaction Survey

AGENCY: Environmental Protection Agency (EPA).

ACTION: Notice.

SUMMARY: In compliance with the Paperwork Reduction Act (44 U.S.C. 3501 et seq.), this document announces that EPA is planning to submit the following proposed Information Collection Request (ICR) to the Office of Management and Budget (OMB): Drinking Water Customer Satisfaction Survey, EPA ICR number 2016.01. Before submitting the ICR to OMB for review and approval, EPA is soliciting comments on specific aspects of the proposed information collection as described below.

DATES: Comments must be submitted on or before December 28, 2001.

ADDRESSES: Beth Hall, 4606, USEPA Headquarters, Office of Ground Water and Drinking Water, 1200 Pennsylvania Ave., NW., Washington DC 20460. Interested persons may obtain a copy of the ICR without charge by contacting the Safe Drinking Water Hotline at 1-800-426-4791. Information will also be available at http://www.epa.gov/safewater/protect/features.html.

FOR FURTHER INFORMATION CONTACT: Beth Hall, (202) 260-5553, (202) 260-0732 (fax), hall.beth@epa.gov.

SUPPLEMENTARY INFORMATION: Affected entities: Entities potentially affected by this action are randomly selected EPA information customers, adults 18 and older, served by public water systems.

Title: Drinking Water Satisfaction Survey EPA ICR #2016.01.

Abstract: The Office of Ground Water and Drinking Water is planning to conduct a satisfaction survey on the effectiveness of our efforts to provide drinking water information to our customers. Under the right to know provisions of the Safe Drinking Water Act, EPA is charged with helping to provide people with information about their drinking water. This survey will allow EPA to evaluate our process for disseminating this information. We will use the survey results to modify our information efforts to improve customer satisfaction. The survey will be conducted via telephone interview with 1000 randomly selected EPA information customers (adults served by public water systems) by the Gallup organization under contract to EPA. Through the survey, EPA information customers will be asked specific questions about two key sources of tap water information—consumer confidence reports (annual water quality reports) and source water assessments. Our statistical analysis of the data will assist EPA in understanding the impact of this information and whether this information is reaching to public, or if additional measures are needed to make the information available and understandable. The survey instrument is a 10 minute, voluntary telephone questionnaire covering approximately 31 questions. We intend to repeat the survey every two years so that we may evaluate the success of our right to know efforts and make adjustments accordingly. An agency may not conduct or sponsor, and a person is not required to respond to, a collection of information unless it displays a currently valid OMB control number. The OMB control numbers for EPA's regulations are listed in 40 CFR part 9 and 48 CFR Chapter 15.

The EPA would like to solicit comments to:

(i) Evaluate whether the proposed collection of information is necessary for the proper performance of the functions of the agency, including whether the information will have practical utility;

(ii) evaluate the accuracy of the agency's estimate of the burden of the proposed collection of information, including the validity of the methodology and assumptions used;

(iii) enhance the quality, utility, and clarity of the information to be collected; and

(iv) minimize the burden of the collection of information on those who are to respond, including through the use of appropriate automated electronic, mechanical, or other technological collection techniques or other forms of information technology, e.g., permitting electronic submission of responses.

Burden Statement: The public reporting burden for the collection of information is estimated to average eleven (11) minutes per response. Respondents not familiar with having received EPA drinking water information will not be asked detailed questions about their satisfaction. There is no cost, other than 10 minutes or less of time, for the approximately 1000 respondents. The cost to the agency is for collecting this information including collection and analyses of survey results. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Dated: September 7, 2001.
William R. Diamond,
Director, Drinking Water Protection Division.

[FR Doc. 01-27118 Filed 10-26-01; 8:45 am]

BILLING CODE 6560-50-P